DEPARTMENT OF COMMERCE

National Institute of Standards and Technology

Malcolm Baldrige National Quality Award Board of Overseers

AGENCY: National Institute of Standards and Technology, Department of Commerce.

ACTION: Notice of Public Meeting.

SUMMARY: Pursuant to the Federal Advisory Committee Act, 5 U.S.C. app. 2, notice is hereby given that there will be a meeting of the Board of Overseers of the Malcolm Baldrige National Quality Award on Thursday, December 13, 2001. The Board of Overseers is composed of eleven members prominent in the field of quality management and appointed by the Secretary of Commerce, assembled to advise the Secretary of Commerce on the conduct of the Baldrige Award. The purpose of this meeting is to discuss and review information received from the National Institute of Standards and Technology with the members of the Judges Panel of the Malcolm Baldrige National Quality Award. The agenda will include: Report from the Judges' Panel; Status of the Baldrige Program; presentations on Baldrige Program Partnerships, Workforce Excellence Network, Baldrige Not-For-Profit Eligibility Category, Baldrige Regional Conferences, Issue Sheets, 2002 Hoshin—Increase Number of Baldrige Applicants; and Recommendations to the NIST Director.

DATES: The meeting will convene December 13, 2001, at 8:30 a.m. and adjourn at 3:30 p.m. on December 13, 2001.

ADDRESSES: The meeting will be held at the National Institute of Standards and Technology, Administration Bldg., Tenth Floor Conference Room, Gaithersburg, Maryland 20899.

FOR FURTHER INFORMATION CONTACT: Dr. Harry Hertz, Director, National Quality Program, National Institute of Standards and Technology, Gaithersburg, Maryland 20899, telephone number (301) 975-2361.

Dated: November 19, 2001.
Karen H. Brown,
Deputy Director.

[FR Doc. 01-29561 Filed 11-27-01; 8:45 am]

BILLING CODE 3510-CN-M